FEDERAL COMMUNICATIONS COMMISSION

47 CFR Part 15

[ET Docket No. 02-380; DA 03-1022]

Unlicensed Devices

AGENCY: Federal Communications Commission.

ACTION: Proposed rule; extension of comment period.

SUMMARY: This document extends the deadline for filing comments on the proposal to make additional spectrum available for unlicensed devices to enable interested parties to submit information that will be beneficial to the record in this proceeding.

DATES: Comments are due April 17, 2003, and reply comments are due May 16, 2003.

ADDRESSES: Office of the Secretary, Federal Communications Commission, 445 12th Street, SW., TW-A325, Washington, DC 20554.

FOR FURTHER INFORMATION CONTACT: Hugh Van Tuyl, Office of Engineering and Technology, (202) 418-7506, TTY (202) 418-2989, e-mail: hvantuyl@fcc.gov.

SUPPLEMENTARY INFORMATION: This is a summary of the Commission's Order, ET Docket No. 02-380, DA 03-1022, adopted March 28, 2003, and released March 31, 2003. The full text of this document is available for inspection and copying during regular business hours in the FCC Reference Center (Room CY-A257), 445 12th Street, SW., Washington, DC 20554. The complete text of this document also may be purchased from the Commission's copy contractor, Qualex International, 445 12th Street, SW., Room CY-B402, Washington, DC 20554. The full text may also be downloaded at: http://www.fcc.gov. To request materials in accessible formats for people with disabilities (Braille, large print, electronic files, audio format), send an e-mail to fcc504@fcc.gov or call the FCC Consumer & Governmental Affairs Bureau at (202) 418-0531 (voice), (202) 418-7365 (TTY).

Summary of the Order

1. On March 24, 2003, the Association for Maximum Service Television, Inc. (MSTV) submitted a motion to the Commission to extend the comment and reply comment deadlines in the above captioned proceeding by 10 days, from April 7, 2003, and May 6, 2003, to April 17, 2003, and May 16, 2003, respectively. MSTV states that additional time is required to permit review and discussion of its comments by its board of directors before they can be approved and filed with the Commission.

2. The Commission does not routinely grant extensions of time in rule making proceedings. However, we find MSTV's circumstances compelling and we believe that providing more time will enable MSTV to submit information that will be beneficial to the record in this proceeding. In addition, such a brief extension will not cause undue delay. Therefore, we agree to extend the comment and reply comment deadlines by 10 days.

3. The deadline for filing comments in the above captioned proceeding is extended to April 17, 2003, and that the deadline for filing reply comments in the above captioned proceeding is extended to May 16, 2003.

4. This action is taken pursuant to the authority found in section 4(i) and 303 of the Communications Act of 1934, as amended, 47 U.S.C. 154(i) and 303; and pursuant to §§ 0.31, 0.241 and 1.46 of the Commission's rules, 47 CFR 0.31, 0.241 and 1.46.

List of Subjects in 47 CFR Part 15

Communications equipment, Labeling, Radio, Reporting and recordkeeping requirements.

Federal Communications Commission.
Marlene H. Dortch,
Secretary.

[FR Doc. 03-9688 Filed 4-18-03; 8:45 am]

BILLING CODE 6712-01-P